DEPARTMENT OF ENERGY

Federal Energy Regulatory Commission

[Docket No. EG00-160-000, et al.]

Joliet Trust I, et al.; Electric Rate and Corporate Regulation Filings

June 8, 2000.

Take notice that the following filings have been made with the Commission:

1. Joliet Trust I

[Docket No. EG00-160-000]

Take notice that on June 2, 2000, Joliet Trust I filed with the Federal Energy Regulatory Commission an application for determination of exempt wholesale generator status pursuant to section 32(a)(1) of the Public Utility Holding Company Act of 1935 (PUHCA). The applicant is a business trust created pursuant to the laws of the State of Delaware that will be engaged directly and exclusively in holding an undivided interest in Units 7 and 8 (totaling 1044 MW) of the coal-fired Joliet Station in Will County, Illinois. Units 7 and 8 will be leased by applicant and one or more additional trusts holding the remaining interests in the units to Midwest Generation, LLC, which will operate the units as an exempt wholesale generator.

Comment date: June 29, 2000, in accordance with Standard Paragraph E at the end of this notice. The Commission will limit its consideration of comments to those that concern the adequacy or accuracy of the application.

2. Joliet Trust II

[Docket No. EG00-161-000]

Take notice that on June 2, 2000, Joliet Trust II filed with the Federal Energy Regulatory Commission an application for determination of exempt wholesale generator status pursuant to section 32(a)(1) of the Public Utility Holding Company Act of 1935 (PUHCA). The applicant is a business trust created pursuant to the laws of the State of Delaware that will be engaged directly and exclusively in holding an undivided interest in Units 7 and 8 (totaling 1044 MW) of the coal-fired Joliet Station in Will County, Illinois. Units 7 and 8 will be leased by applicant and one or more additional trusts holding the remaining interests in the units to Midwest Generation, LLC, which will operate the units as an exempt wholesale generator.

Comment date: June 29, 2000, in accordance with Standard Paragraph E at the end of this notice. The Commission will limit its consideration of comments to those that concern the adequacy or accuracy of the application.

3. Joliet Trust III

[Docket No. EG00-162-000]

Take notice that on June 2, 2000, Joliet Trust III filed with the Federal Energy Regulatory Commission an application for determination of exempt wholesale generator status pursuant to section 32(a)(1) of the Public Utility Holding Company Act of 1935 (PUHCA). The applicant is a business trust created pursuant to the laws of the State of Delaware that will be engaged directly and exclusively in holding an undivided interest in Units 7 and 8 (totaling 1044 MW) of the coal-fired Joliet Station in Will County, Illinois. Units 7 and 8 will be leased by applicant and one or more additional trusts holding the remaining interests in the units to Midwest Generation, LLC, which will operate the units as an exempt wholesale generator.

Comment date: June 29, 2000, in accordance with Standard Paragraph E at the end of this notice. The Commission will limit its consideration of comments to those that concern the adequacy or accuracy of the application.

4. Joliet Trust IV

[Docket No. EG00-163-000]

Take notice that on June 2, 2000, Joliet Trust IV filed with the Federal Energy Regulatory Commission an application for determination of exempt wholesale generator status pursuant to section 32(a)(1) of the Public Utility Holding Company Act of 1935 (PUHCA). The applicant is a business trust created pursuant to the laws of the State of Delaware that will be engaged directly and exclusively in holding an undivided interest in Units 7 and 8 (totaling 1044 MW) of the coal-fired Joliet Station in Will County, Illinois. Units 7 and 8 will be leased by applicant and one or more additional trusts holding the remaining interests in the units to Midwest Generation, LLC, which will operate the units as an exempt wholesale generator.

Comment date: June 29, 2000, in accordance with Standard Paragraph E at the end of this notice. The Commission will limit its consideration of comments to those that concern the adequacy or accuracy of the application.

5. Powerton Trust I

[Docket No. EG00-164-000]

Take notice that on June 2, 2000, Powerton Trust I filed with the Federal Energy Regulatory Commission an application for determination of exempt wholesale generator status pursuant to section 32(a)(1) of the Public Utility Holding Company Act of 1935 (PUHCA). The applicant is a business trust created pursuant to the laws of the State of Delaware that will be engaged directly and exclusively in holding an undivided interest in the 1,538 MW coal-fired Powerton Station in Tazwell County, Illinois. The facility will be leased by applicant and one or more additional trusts holding the remaining interests in the Powerton Station to Midwest Generation, LLC, which will operate the facility as an exempt wholesale generator.

Comment date: June 29, 2000, in accordance with Standard Paragraph E at the end of this notice. The Commission will limit its consideration of comments to those that concern the adequacy or accuracy of the application.

6. Powerton Trust II

[Docket No. EG00-165-000]

Take notice that on June 2, 2000, Powerton Trust II filed with the Federal Energy Regulatory Commission an application for determination of exempt wholesale generator status pursuant to section 32(a)(1) of the Public Utility Holding Company Act of 1935 (PUHCA). The applicant is a business trust created pursuant to the laws of the State of Delaware that will be engaged directly and exclusively in holding an undivided interest in the 1,538 MW coal-fired Powerton Station in Tazwell County, Illinois. The facility will be leased by applicant and one or more additional trusts holding the remaining interests in the Powerton Station to Midwest Generation, LLC, which will operate the facility as an exempt wholesale generator.

Comment date: June 29, 2000, in accordance with Standard Paragraph E at the end of this notice. The Commission will limit its consideration of comments to those that concern the adequacy or accuracy of the application.

7. Powerton Trust III

[Docket No. EG00-166-000]

Take notice that on June 2, 2000, Powerton Trust III filed with the Federal Energy Regulatory Commission an application for determination of exempt wholesale generator status pursuant to section 32(a)(1) of the Public Utility Holding Company Act of 1935 (PUHCA). The applicant is a business trust created pursuant to the laws of the State of Delaware that will be engaged directly and exclusively in holding an undivided interest in the 1,538 MW coal-fired Powerton Station in Tazwell County, Illinois. The facility will be leased by applicant and one or more additional trusts holding the remaining interests in the Powerton Station to Midwest Generation, LLC, which will operate the facility as an exempt wholesale generator.

Comment date: June 29, 2000, in accordance with Standard Paragraph E at the end of this notice. The Commission will limit its consideration of comments to those that concern the adequacy or accuracy of the application.

8. Powerton Trust IV

[Docket No. EG00-167-000]

Take notice that on June 2, 2000, Powerton Trust IV filed with the Federal Energy Regulatory Commission an application for determination of exempt wholesale generator status pursuant to section 32(a)(1) of the Public Utility Holding Company Act of 1935 (PUHCA). The applicant is a business trust created pursuant to the laws of the State of Delaware that will be engaged directly and exclusively in holding an undivided interest in the 1,538 MW coal-fired Powerton Station in Tazwell County, Illinois. The facility will be leased by applicant and one or more additional trusts holding the remaining interests in the Powerton Station to Midwest Generation, LLC, which will operate the facility as an exempt wholesale generator.

Comment date: June 29, 2000, in accordance with Standard Paragraph E at the end of this notice. The Commission will limit its consideration of comments to those that concern the adequacy or accuracy of the application.

9. Foote Creek IV Project

[Docket No. EG00-168-000]

Take notice that on June 5, 2000, Foote Creek IV, LLC, 1455 Frazee Road, Suite 900, San Diego, California 92108 filed with the Federal Energy Regulatory Commission an application for determination of exempt wholesale generator status pursuant to Part 365 of the Commission's regulations.

Foote Creek IV, LLC, is a Delaware limited liability company that intends to construct, own and operate a 16.8 MW generation facility consisting of twenty-eight (28) Mitsubishi Heavy Industries MWT-600 wind turbine generators in Carbon County, Wyoming. Foote Creek IV, LLC, is engaged directly and exclusively in the business of owning and operating all or part of one or more eligible facilities and selling electric energy at wholesale.

Comment date: June 29, 2000, in accordance with Standard Paragraph E at the end of this notice. The Commission will limit its consideration of comments to those that concern the adequacy or accuracy of the application.

10. Kansas Gas and Electric Company

[Docket No. ER00-2344-000]

Take notice that on June 2, 2000, Kansas Gas and Electric Company filed a Notice of Withdrawal of its April 28, 2000 application for acceptance of the Interconnection Agreement between itself and Westar Generating II, Inc.

Comment date: June 19, 2000, in accordance with Standard Paragraph E at the end of this notice.

11. Ameren Service Company

[Docket No. ER00-2364-001]

Take notice that on June 5, 2000, Ameren Services Company (Ameren), tendered for filing a substitute revised unexecuted Network Integration Transmission Service Agreement (revised Agreement) with Soyland Power Cooperative, Inc. (Soyland) under Ameren's Open Access Transmission Tariff. This revised Agreement is intended as a substitute for the document filed in the above-captioned proceeding on May 1, 2000. Ameren states that it has corrected a misstated rate in the document in Paragraph 7.0 and that this correction is the only change in the document.

Copies of the filing have been served on Soyland and the Illinois Commerce Commission. Ameren continues to seek an effective date of June 1, 2000.

Comment date: June 15, 2000, in accordance with Standard Paragraph E at the end of this notice.

12. Allegheny Energy Service Corporation, on behalf of Allegheny Energy Supply Company LLC

[Docket No. ER00-2504-001]

Take notice that on June 5, 2000, Allegheny Energy Service Corporation on behalf of Allegheny Energy Supply Company, LLC (Allegheny Energy Supply Company), tendered for filing Amendment No. 2 to Supplement No. 42 to complete the filing requirement for one (1) new Customer of the Market Rate Tariff under which Allegheny Energy Supply offers generation services.

Allegheny Energy requests a waiver of notice requirements to make service available as of April 19, 2000 to Tractebel Energy Marketing, Inc.

Copies of the filing have been provided to the Public Utilities Commission of Ohio, the Pennsylvania Public Utility Commission, the Maryland Public Service Commission, the Virginia State Corporation Commission, the West Virginia Public Service Commission, and all parties of record.

Comment date: June 26, 2000, in accordance with Standard Paragraph E at the end of this notice.

13. SEI Wisconsin, L.L.C.

[Docket No. ER00-2682-000]

Take notice that on June 2, 2000, SEI Wisconsin, L.L.C. (SEI Wisconsin) filed with the Federal Energy Regulatory Commission a short-term service agreement for sales under SEI Wisconsin's Market Rate Tariff, which was accepted for filing in Document No. ER99-669-000. The Electric Power Sale Agreement is between SEI Wisconsin, L.L.C. and Southern Company Energy Marketing L.P.

SEI Wisconsin respectfully requests that the agreement become effective May 5, 2000.

Comment date: June 23, 2000, in accordance with Standard Paragraph E at the end of this notice.

14. PJM Interconnection, L.L.C.

[Docket No. ER00-2683-000]

Take notice that on June 2, 2000, PJM Interconnection, L.L.C. (PJM), tendered for filing 10 executed service agreements for firm point-to-point transmission service, non-firm point-to-point transmission service, and network integration transmission service under the PJM Open Access Transmission Tariff. These agreements are with It's Electric & Gas, L.L.C., MIECO, Inc., Rainbow Energy Marketing Corp., SmartEnergy.com, and Utilimax.com, Inc.

Copies of this filing were served upon the parties to the service agreements and the state commissions within the PJM control area.

Comment date: June 23, 2000, in accordance with Standard Paragraph E at the end of this notice.

15. American Ref-Fuel Company of Delaware Valley, L.P.

[Docket No. ER00-2684-000]

Take notice that on June 1, 2000, American Ref-Fuel Company of Delaware Valley, L.P. (ARC) submitted a notice of cancellation of that certain Amended and restated Contract for Sale and Purchase of Electric Energy dated December 26, 1989, which is on file with the Federal Energy Regulatory Commission (Commission) as ARC's Rate Schedule FERC No. 2 and each supplement thereto, and an Amendment to that certain Agreement for Purchase of Electric Power dated November 18, 1988 between ARC and Atlantic City Electric Company which is on file with the Commission as ARC's Rate Schedule FERC No. 1 and each supplement thereto.

Comment date: June 22, 2000, in accordance with Standard Paragraph E at the end of this notice.

16. Allegheny Energy Service Corporation on behalf of Allegheny Energy Supply Company, LLC

[Docket No. ER00-2685-000]

Take notice that on June 2, 2000, Allegheny Energy Service Corporation on behalf of Allegheny Energy Supply Company, LLC (Allegheny Energy Supply) filed Supplement No. 46 to add one (1) new Customer to the Market Rate Tariff under which Allegheny Energy Supply offers generation services.

Allegheny Energy Supply requests a waiver of notice requirements to make service available as of April 12, 2000 to Amoco Energy Trading Corporation.

Copies of the filing have been provided to the Public Utilities Commission of Ohio, the Pennsylvania Public Utility Commission, the Maryland Public Service Commission, the Virginia State Corporation Commission, the West Virginia Public Service Commission, and all parties of record.

Comment date: June 23, 2000, in accordance with Standard Paragraph E at the end of this notice.

17. Tucson Electric Power Company

[Docket No. ER00-2686-000]

Take notice that on June 2, 2000, Tucson Electric Power Company tendered for filing one (1) umbrella service agreement (for short-term firm service) pursuant to Part II of Tucson's Open Access Transmission Tariff, which was filed in Docket No. OA 96-140-000.

The details of the service agreement is as follows:

(1) Umbrella Agreement for Short-Term Firm Point-to-Point Transmission Service dated as of May 30, 2000 by and between Tucson Electric Power Company and Southern Company Energy Marketing, L.P. No service has commenced at this time.

Comment date: June 23, 2000, in accordance with Standard Paragraph E at the end of this notice.

18. Ameren Energy, Inc., on behalf of Union Electric Company d/b/a AmerenUE

[Docket No. ER00-2687-000]

Take notice that on June 2, 2000, Ameren Energy, Inc., as agent for Union Electric Company, d/b/a AmerenUE, filed a FERC Electric Rate Schedule No.1 and Rate Schedule for Resale, Assignment or Transfer of Transmission Rights and Ancillary Services (Rate Schedule). The Rate Schedule will allow Ameren Energy, Inc, on behalf of and as agent for AmerenUE to continue the wholesale of power under the market-based rate authority previously granted by the Commission to Ameren Services Company on behalf of AmerenUE and Central Illinois Public Service Company, d/b/a AmerenCIPS, but utilizing negotiated terms and conditions. Ameren Services, as agent for AmerenUE and AmerenCIPS, proposes to phase out its Market Based Rate Sales Tariff. The Rate Schedule will also allow Ameren Energy, on behalf of AmerenUE, to resell transmission services and ancillary service rights on their own and third-party systems in accordance with Order Nos. 888 and 888-A.

Ameren Energy has requested a June 3, 2000 effective date for the Rate Schedule.

Comment date: June 23, 2000, in accordance with Standard Paragraph E at the end of this notice.

19. Allegheny Energy Service Corporation, on behalf of Allegheny Energy Supply Company, LLC

[Docket No. ER00-2688-000]

Take notice that on May 31, 2000, Allegheny Energy Service Corporation on behalf of Allegheny Energy Supply Company, LLC (Allegheny Energy Supply) filed Amendment No. 4 to Supplement No. 23 to the Market Rate Tariff to incorporate a Netting Agreement with Aquila Energy Marketing Corporation into the tariff provisions.

Allegheny Energy Supply requests a waiver of notice requirements to make the Amendment effective as of May 25, 2000 or such other date as ordered by the Commission.

Copies of the filing have been provided to the Public Utilities Commission of Ohio, the Pennsylvania Public Utility Commission, the Maryland Public Service Commission, the Virginia State Corporation Commission, the West Virginia Public Service Commission, and all parties of record.

Comment date: June 21, 2000, in accordance with Standard Paragraph E at the end of this notice.

20. PPL Electric Utilities Corporation

[Docket No. ER00-2689-000]

Take notice that on June 1, 2000, PPL Electric Utilities Corporation, formerly known as PP&L, Inc., filed notice that effective June 30, 2000, Schedule FERC No. 152, effective on June 1, 1997, is to be cancelled.

Notice of the termination has been served upon Jersey Central Power & Light Company.

Comment date: June 22, 2000, in accordance with Standard Paragraph E at the end of this notice.

21. Allegheny Energy Service Corporation, on behalf of Allegheny Energy Supply Company, LLC

[Docket No. ER00-2690-000]

Take notice that on June 1, 2000, Allegheny Energy Service Corporation on behalf of Allegheny Energy Supply Company, LLC (Allegheny Energy Supply) filed Amendment No. 2 to Supplement No. 10 to the Market Rate Tariff to incorporate a Netting Agreement with DTE Energy Trading, Inc. into the tariff provisions.

Allegheny Energy Supply Company requests a waiver of notice requirements to make the Amendment effective as of May 2, 2000.

Copies of the filing have been provided to the Public Utilities Commission of Ohio, the Pennsylvania Public Utility Commission, the Maryland Public Service Commission, the Virginia State Corporation Commission, the West Virginia Public Service Commission, and all parties of record.

Comment date: June 22, 2000, in accordance with Standard Paragraph E at the end of this notice.

22. Allegheny Energy Service Corporation, on behalf of Monongahela Power Company, The Potomac Edison Company, and West Penn Power Company (Allegheny Power)

[Docket No. ER00-2691-000]

Take notice that on, June 1, 2000, Allegheny Energy Service Corporation on behalf of Monongahela Power Company, The Potomac Edison Company and West Penn Power Company (Allegheny Power), submitted a Notice of Cancellation for NP Energy, Inc., a customer under Allegheny Power's Open Access Transmission Service Tariff and Standard Generation Service Rate Schedule.

Copies of the filing have been provided to the Public Utilities Commission of Ohio, the Pennsylvania Public Utility Commission, the Maryland Public Service Commission, the Virginia State Corporation Commission, and the West Virginia Public Service Commission.

Comment date: June 22, 2000, in accordance with Standard Paragraph E at the end of this notice.

23. Alliant Energy Corporate Services, Inc.

[Docket No. ER00-2692-000]

Take notice that on June 1, 2000, Alliant Energy Corporate Services, Inc. (Alliant Energy) on behalf of Interstate Power Company (IPC) and Wisconsin Power & Light (WPL) tendered for filing a Amendment of Negotiated Capacity Transaction (Agreement) between IPC and WPL for the period January 1, 2000 through December 31, 2000. The Agreement was negotiated to provide service under the Alliant Energy System Coordination and Operating Agreement among IES Utilities Inc., Interstate Power Company, Wisconsin Power & Light Company and Alliant Energy.

Comment date: June 22, 2000, in accordance with Standard Paragraph E at the end of this notice.

24. FirstEnergy System

[Docket No. ER00-2693-000]

Take notice that on June 2, 2000, FirstEnergy System tendered a Service Agreement to provide Non-Firm Point-to-Point Transmission Service for: MIECO, Inc., the Transmission Customer. Services are being provided under the FirstEnergy System Open Access Transmission Tariff submitted for filing by the Federal Energy Regulatory Commission in Docket No. ER97-412-000.

The proposed effective date under this Service Agreement is May 30, 2000, for the above mentioned Service Agreement in this filing.

Comment date: June 23, 2000, in accordance with Standard Paragraph E at the end of this notice.

25. FirstEnergy System

[Docket No. ER00-2694-000]

Take notice that on June 2, 2000, FirstEnergy System tendered for filing Service Agreements to provide Firm Point-to-Point Transmission Service for MIECO, Inc., the Transmission Customer. Services are being provided under the FirstEnergy System Open Access Transmission Tariff tendered for filing by the Federal Energy Regulatory Commission in Docket No. ER97-412-000.

The proposed effective date under this Service Agreement is May 30, 2000, for the above mentioned Service Agreement in this filing.

Comment date: June 23, 2000, in accordance with Standard Paragraph E at the end of this notice.

26. Virginia Electric and Power Company

[Docket No. ER00-2695-000]

Take notice that on June 2, 2000, Virginia Electric and Power Company (Virginia Power), tendered for filing an Assignment of Contracts entered into by and among Statoil Energy Services, Inc. (Assignor), Amerada Hess Corporation (Assignee), and Virginia Electric and Power Company (Virginia Power). Under this assignment, the Assignor assigns to the Assignee and the Assignee assumes all of the Assignor's rights and obligations pertaining to its Service Agreement with Virginia Power for Short-Term Market Based Rate Power Sales dated March 28, 2000 and accepted by Letter Order dated May 18, 2000 and made effective April 6, 2000 in Docket No. ER00-2145-000.

Virginia Power requests an effective date of May 16, 2000, the date of the Assignment of Contracts.

Copies of this filing were served upon Amerada Hess Corporation, the Virginia State Corporation Commission and the North Carolina Utilities Commission.

Comment date: June 23, 2000, in accordance with Standard Paragraph E at the end of this notice.

27. Allegheny Energy Service Corporation on behalf of Allegheny Energy Supply Company, LLC

[Docket No. ER00-2696-000]

Take notice that on June 2, 2000, Allegheny Energy Service Corporation on behalf of Allegheny Energy Supply Company, LLC (Allegheny Energy Supply), tendered for filing Supplement No. 45 to add one (1) new Customer to the Market Rate Tariff under which Allegheny Energy Supply offers generation services.

Allegheny Energy Supply requests a waiver of notice requirements to make service available as of February 2, 2000 to Entergy Power Marketing Corporation.

Copies of the filing have been provided to the Public Utilities Commission of Ohio, the Pennsylvania Public Utility Commission, the Maryland Public Service Commission, the Virginia State Corporation Commission, the West Virginia Public Service Commission, and all parties of record.

Comment date: June 23, 2000, in accordance with Standard Paragraph E at the end of this notice.

28. Ameren Energy Marketing Company

[Docket No. ER00-2697-000]

Take notice that on June 2, 2000, Ameren Energy Marketing Company (AEM), tendered for filing a Rate Schedule for Resale, Assignment, or Transfer of Transmission Rights and Ancillary Services (Rate Schedule). The Rate Schedule will allow AEM to resell transmission service and ancillary service rights on their own and third-party systems in accordance with Order Nos. 888 and 888-A.

AEM has requested a June 3, 2000 effective date for the Rate Schedule.

Comment date: June 23, 2000, in accordance with Standard Paragraph E at the end of this notice.

29. PPL Electric Utilities Corporation

[Docket No. ER00-2698-000]

Take Notice that on June 2, 2000, PPL Electric Utilities Corporation d/b/a PPL Utilities (formerly known as PP&L, Inc.) (PPL), tendered for filing a Service Agreement dated May 12, 2000, with Goldsboro Borough (Goldsboro) under PPL's Market-Based Rate and Resale of Transmission Rights Tariff, FERC Electric Tariff, Revised Volume No. 5. The Service Agreement adds Goldsboro as an eligible customer under the Tariff.

PPL requests an effective date of June 1, 2000, for the Service Agreement.

PPL states that copies of this filing have been supplied to Goldsboro and to the Pennsylvania Public Utility Commission.

Comment date: June 26, 2000, in accordance with Standard Paragraph E at the end of this notice.

30. Cinergy Services, Inc.

[Docket No. ER00-2699-000]

Take notice that on June 5, 2000, Cinergy Services, Inc. (Cinergy), tendered for filing a Firm Point-To-Point Service Agreement under Cinergy's Open Access Transmission Service Tariff (the Tariff) entered into between Cinergy and Amerada Hess Corporation (Amerada).

Cinergy and Amerada are requesting an effective date of May 5, 2000.

Comment date: June 26, 2000, in accordance with Standard Paragraph E at the end of this notice.

31. UtiliCorp United Inc.

[Docket No. ES00-42-000]

Take notice that on June 1, 2000, UtiliCorp United Inc. (UtiliCorp) submitted an application pursuant to section 204 of the Federal Power Act seeking authorization to issue (1) a forward underwriting agreement for the sale of up to 6,000,000 shares of common stock through such forward underwriting agreement or $100,000,000 of UtiliCorp preference stock at some point in the future, and (2) the issuance of up to $100,000,000 of trust preferred securities of a special purpose financing subsidiary which will be guaranteed by UtiliCorp in one or more private offerings.

Comment date: June 22, 2000, in accordance with Standard Paragraph E at the end of this notice.

32. Cinergy Services, Inc.

[Docket No. ER00-2700-000]

Take notice that on June 5, 2000, Cinergy Services, Inc. (Cinergy), tendered for filing a Non-Firm Point-To-Point Service Agreement under Cinergy's Open Access Transmission Service Tariff (the Tariff) entered into between Cinergy and Mieco Inc., (Amerada).

Cinergy and Amerada are requesting an effective date of May 11, 2000.

Comment date: June 26, 2000, in accordance with Standard Paragraph E at the end of this notice.

33. Cinergy Services, Inc.

[Docket No. ER00-2701-000]

Take notice that on June 5, 2000, Cinergy Services, Inc. (Cinergy), tendered for filing a Firm Point-To-Point Service Agreement under Cinergy's Open Access Transmission Service Tariff (the Tariff), entered into between Cinergy and Mieco Inc. (Mieco).

Cinergy and Mieco are requesting an effective date of May 11, 2000.

Comment date: June 26, 2000, in accordance with Standard Paragraph E at the end of this notice.

34. Cinergy Services, Inc.

[Docket No. ER00-2702-000]

Take notice that on June 5, 2000, Cinergy Services, Inc. (Cinergy), tendered for filing a Non-Firm Point-To-Point Service Agreement under Cinergy's Open Access Transmission Service Tariff (the Tariff) entered into between Cinergy and Pepco Energy Services, Inc., (Pepco).

Cinergy and Pepco are requesting an effective date of May 23, 2000.

Comment date: June 26, 2000, in accordance with Standard Paragraph E at the end of this notice.

35. Cinergy Services, Inc.

[Docket No. ER00-2703-000]

Take notice that on June 5, 2000, Cinergy Services, Inc. (Cinergy), tendered for filing a Non-Firm Point-To-Point Service Agreement under Cinergy's Open Access Transmission Service Tariff (the Tariff) entered into between Cinergy and Amerada Hess Corporation (Amerada).

Cinergy and Amerada are requesting an effective date of May 5, 2000.

Comment date: June 26, 2000, in accordance with Standard Paragraph E at the end of this notice.

36. Cinergy Services, Inc.

[Docket No. ER00-2704-000]

Take notice that on June 5, 2000, Cinergy Services, Inc. (Cinergy), tendered for filing a Firm Point-To-Point Service Agreement under Cinergy's Open Access Transmission Service Tariff (the Tariff) entered into between Cinergy and Pepco Energy Services, Inc., (Pepco).

Cinergy and Pepco are requesting an effective date of May 23, 2000.

Comment date: June 26, 2000, in accordance with Standard Paragraph E at the end of this notice.

37. Foote Creek IV, LLC

[Docket No. ER00-2706-000]

Take notice that on June 5, 2000, Foote Creek IV, LLC, a Delaware limited liability company, tendered for filing pursuant to Rule 205, 18 CFR 385.205, a petition for blanket waivers and blanket approvals under various regulations of the Commission including authority to sell electricity at market-based rates and for an order accepting its FERC Electric Rate Schedule No. 1 to be effective on September 1, 2000.

Foote Creek IV, LLC's FERC Electric Rate Schedule No. 1 provides for sales under the Wind Energy Supply Agreement between Foote Creek IV, LLC and Bonneville Power Administration and for sales to other purchasers. Foote Creek IV, LLC is a Delaware limited liability company that proposes to engage in the wholesale sale of electric power in the state of Wyoming and has its principal business office in San Diego, California.

Comment date: June 26, 2000, in accordance with Standard Paragraph E at the end of this notice.

38. Delmarva Power & Light Company

[Docket Nos. ER00-2707-000]

Take notice that on June 5, 2000, Delmarva Power & Light Company (Delmarva) tendered for filing an Amended and Restated Interconnection Agreement (Amended Interconnection Agreement) with Commonwealth Chesapeake Company, LLC (CCC). The Amended Interconnection Agreement sets forth the terms and conditions under which Delmarva will construct interconnection facilities and provide interconnection service for generating facilities being constructed by CCC.

Delmarva requests that the Amended Interconnection Agreement become effective on June 5, 2000.

Delmarva also has filed a Notice of Cancellation of the Unexecuted Interconnection Agreement with CCC, FERC Electric Rate Schedule No. 121, and Supplements thereto.

Copies of the filing were served upon the Delmarva Public Service Commission, the Maryland Public Service Commission and the Virginia State Corporation Commission.

Comment date: June 26, 2000, in accordance with Standard Paragraph E at the end of this notice.

39. Southern Energy Delta, L.L.C.; Southern Energy Potrero, L.L.C.

[Docket Nos. ER00-2726-000; ER00-2727-000]

Take notice that on May 31, 2000, Southern Energy Delta, L.L.C. (SE Delta) and Southern Energy Potrero, L.L.C. (SE Potrero), tendered for filing revised tariff sheets to the Must-Run Service Agreements (RMR Agreements) between SE Delta and the California Independent System Operator Corporation (the ISO). These agreements reflect the expected impact of Amendment No. 26 to the ISO's Tariff on SE Delta and SE Potrero.

Comment date: June 21, 2000, in accordance with Standard Paragraph E at the end of this notice.

40. Virginia Electric and Power Company

[Docket No. ER00-2705-000]

Take notice that on June 5, 2000, Virginia Electric and Power Company (Virginia Power), tendered for filing a confidential version and a public version of a Long-Term Power Purchase Agreement (Agreement) between Virginia Power and Dynegy Power Marketing, Inc.

Pursuant to Section 388.112 of the Commission's Regulations, Virginia Power respectfully requests privileged treatment of portions of this Agreement as they contain information that the parties consider confidential.

Virginia Power requests that the Commission accept the Long-Term Power Purchase Agreement as a service agreement under the Company's Revised Market-Based Rate Tariff designated as FERC Electric Tariff (Second Revised Volume No. 4), which was accepted by order of the Commission dated August 13, 1998 in Docket No. ER98-3771-000. If the Commission will not accept this agreement under the Company's Market-Based Rate Tariff, the Company requests that the Commission consider it as a separate bilateral rate schedule. As requested by the customer, the Company asks that the Commission grant a waiver to make the Agreement effective June 1, 2000.

Copies of the filing were served upon Dynegy Power Marketing, Inc., the Virginia State Corporation Commission and the North Carolina Utilities Commission.

Comment date: June 26, 2000, in accordance with Standard Paragraph E at the end of this notice.

Standard Paragraphs

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 00-15235 Filed 6-15-00; 8:45 am]

BILLING CODE 6717-01-P